DEPARTMENT OF THE INTERIOR

Fish and Wildlife Service

50 CFR Parts 12, 13, 17, 19, 20, 21, and 22

[Docket No. FWS-HQ-MB-2021-0025; FF09M22000-223-FXMB12320900000]

RIN 1018-BF59

Migratory Bird Permits; Administrative Updates to 50 CFR Parts 21 and 22

AGENCY: Fish and Wildlife Service, Interior.

ACTION: Final rule.

SUMMARY: We, the U.S. Fish and Wildlife Service (Service), are renumbering, renaming, and rearranging certain subparts and sections in our regulations. These changes will provide users a more organized road map of the Service's migratory bird and eagle permit processes and improve readability of the regulations. These changes necessitate updating cross-references to the affected section numbers in other parts of our regulations. In addition, we are making several nonsubstantive, editorial revisions to correct misspellings, update internet addresses, update applicable Office of Management and Budget (OMB) control numbers, and add or update relevant family and scientific names. This rule is a purely administrative action; it does not change the species protected by, the permit requirements of, or any other requirements of the regulations.

DATES: This rule is effective February 7, 2022.

FOR FURTHER INFORMATION CONTACT: Jennifer Miller, Division of Migratory Bird Management, U.S. Fish and Wildlife Service, telephone: 540-681-0439, email: jennifer_miller@fws.gov. Persons who use a telecommunications device for the deaf (TDD) may call the Federal Relay Service at 800-877-8339.

SUPPLEMENTARY INFORMATION:

Background

The U.S. Fish and Wildlife Service is the Federal agency delegated with the primary responsibility for managing migratory birds. Our authority derives from the Migratory Bird Treaty Act of 1918, as amended, 16 U.S.C. 703 et seq. (MBTA), which implements conventions with Great Britain (for Canada), Mexico, Japan, and the Russia Federation. The MBTA protects certain migratory birds from take, except as permitted under the MBTA. We implement the provisions of the MBTA through regulations in parts 10, 13, 20, 21, and 22 of title 50 of the Code of Federal Regulations (CFR). Regulations pertaining to migratory bird permits are set forth at 50 CFR part 21.

In addition, the Bald and Golden Eagle Protection Act, 16 U.S.C. 668 et seq. (Eagle Act), prohibits take of bald eagles and golden eagles except pursuant to Federal regulations. The Eagle Act authorizes the Secretary of the Interior to issue regulations to permit the “taking” of eagles for various purposes, including the protection of “other interests in any particular locality” (16 U.S.C. 668a), provided the taking is compatible with the preservation of eagles. Regulations pertaining to eagle permits are set forth at 50 CFR part 22.

The regulations at 50 CFR parts 21 and 22 were established in 1974. Since 1974, we have published many rules to add, revise, or remove portions of these regulations. We have not, however, published a reorganization rule to address the need for better organization and enhanced readability of these regulations until this time.

This Rule

Renaming and Renumbering of Sections of the Regulations

We are renumbering most of the sections, and renaming and rearranging certain sections, in 50 CFR parts 21 and 22. Below, we provide a redesignation table to help the public readily identify the new numbers, names, and locations of applicable regulations (see tables 1 and 2, below). Only those subparts or sections that are redesignated, renamed, and/or rearranged are reflected in the tables below; the revised table of contents following each table shows every subpart and section heading in each part. These actions are administrative in nature; we are not changing the species protected by, the permit requirements of, or any other requirements of the regulations.

We are making these changes for a variety of reasons. First, some subpart headings in 50 CFR parts 21 and 22 lack specificity. Second, some sections of 50 CFR parts 21 and 22 contain many and varied requirements that will be easier to locate when placed in their own sections with more descriptive section headers. Third, several sections will be easier to find when placed under a different subpart. Last, the current sequential numbering of sections, without adequate intervening open section numbers, requires new regulations to be placed as space allows. These changes will allow for clear and understandable future additions to the regulations.

All of the changes to the regulations described in this rule are intended to improve the clarity and readability of the regulations at 50 CFR parts 21 and 22. They are administrative in nature and do not change the substance of the regulations. These changes should help readers more easily locate applicable regulations and help the Service provide a clearer and more organized presentation of the permit regulations for migratory birds and eagles now and in the future.

Table 1—Redesignations for 50 CFR Part 21
Old subpart or section | New subpart or section
Subpart A—Introduction | Subpart A—Introduction and General Requirements.
§ 21.1 Purpose of regulations | § 21.2 Purpose of this part.
§ 21.2 Scope of regulations | § 21.4 Scope of this part.
§ 21.3 Definitions | § 21.6 Definitions.
§ 21.4 Information collection requirements | § 21.8 Information collection requirements.
Subpart B—General Requirements and Exceptions | Subpart B—Exceptions to Permit Requirements.
§ 21.11 General permit requirements | § 21.10 General permit requirements. (moved to Subpart A)
§ 21.13 Permit exceptions for captive-reared mallard ducks | § 21.45 Permit exceptions for captive-reared mallard ducks.
§ 21.14 Permit exceptions for captive-bred migratory waterfowl other than mallard ducks | § 21.48 Permit exceptions for captive-bred migratory waterfowl other than mallard ducks.
§ 21.15 Authorization of take incidental to military readiness activities | § 21.42 Authorization of take incidental to military readiness activities.
§ 21.21 Import and export permits | § 21.67 Import and export permits.
§ 21.22 Banding or marking permits | § 21.70 Banding or marking permits.
§ 21.23 Scientific collecting permits | § 21.73 Scientific collecting permits.
§ 21.24 Taxidermist permits | § 21.63 Taxidermist permits.
§ 21.25 Waterfowl sale and disposal permits | § 21.88 Waterfowl sale and disposal permits.
§ 21.26 Special Canada goose permit | § 21.120 Special Canada goose permit. (moved to Subpart D)
§ 21.27 Special purpose permits | § 21.95 Special purpose permits.
§ 21.28 Special double-crested cormorant permit | § 21.123 Special double-crested cormorant permit. (moved to Subpart D)
§ 21.29 Falconry standards and falconry permitting | § 21.82 Falconry standards and falconry permitting.
§ 21.30 Raptor propagation permits | § 21.85 Raptor propagation permits.
§ 21.31 Rehabilitation permits | § 21.76 Rehabilitation permits.
Subpart D—Control of Depredating and Otherwise Injurious Birds | Subpart D—Provisions for Depredating, Overabundant, or Otherwise Injurious Birds.
§ 21.41 Depredation permits | § 21.100 Depredation permits.
§ 21.43 Depredation order for blackbirds, cowbirds, crows, grackles, and magpies | § 21.150 Depredation order for blackbirds, cowbirds, crows, grackles, and magpies.
§ 21.44 Depredation order for horned larks, house finches, and white-crowned sparrows in California | § 21.153 Depredation order for horned larks, house finches, and white-crowned sparrows in California.
§ 21.46 Depredation order for depredating California scrub jays and Steller's jays in Washington and Oregon | § 21.156 Depredation order for depredating California scrub jays and Steller's jays in Washington and Oregon.
§ 21.49 Control order for resident Canada geese at airports and military airfields | § 21.159 Control order for resident Canada geese at airports and military airfields.
§ 21.50 Depredation order for resident Canada geese nests and eggs | § 21.162 Depredation order for resident Canada geese nests and eggs.
§ 21.51 Depredation order for resident Canada geese at agricultural facilities | § 21.165 Depredation order for resident Canada geese at agricultural facilities.
§ 21.52 Public health control order for resident Canada geese | § 21.168 Public health control order for resident Canada geese.
§ 21.53 Control order for purple swamphens | § 21.171 Control order for purple swamphens.
§ 21.54 Control order for muscovy ducks in the United States | § 21.174 Control order for Muscovy ducks in the United States.
§ 21.55 Control order for invasive migratory birds in Hawaii | § 21.177 Control order for invasive migratory birds in Hawaii.
Subpart E—Control of Overabundant Migratory Bird Populations | [Subpart E heading is removed].
§ 21.60 Conservation order for light geese | § 21.180 Conservation order for light geese. (moved to Subpart D)
§ 21.61 Population control of resident Canada geese | § 21.183 Population control of resident Canada geese. (moved to Subpart D)

Table 2—Redesignations for 50 CFR Part 22
Old subpart or section | New subpart or section
Subpart A—Introduction | Subpart A—Introduction and General Requirements.
§ 22.1 What is the purpose of this part? | § 22.2 Purpose of this part.
§ 22.2 What activities does this part apply to? | § 22.4 Scope of this part.
§ 22.3 Definitions | § 22.6 Definitions.
§ 22.4 Information collection requirements | § 22.8 Information collection requirements.
Subpart B—General Requirements | [Subpart B—Reserved].
§ 22.11 What is the relationship to other permit requirements? | § 22.10 Relationship to other permit requirements. (moved to Subpart A)
§ 22.12 What activities are illegal? | § 22.12 Illegal activities. (Moved to Subpart A)
Subpart C—Eagle Permits | Subpart C—Specific Eagle Permit Provisions.
§ 22.21 What are the requirements concerning scientific and exhibition purpose permits? | § 22.50 Eagle scientific and eagle exhibition permits.
§ 22.22 What are the requirements concerning permits for Indian religious purposes? | § 22.60 Eagle Indian religious permits.
§ 22.23 What are the requirements for permits to take depredating eagles and eagles that pose a risk to human or eagle health and safety? | § 22.100 Eagle depredation permits. (moved to Subpart D)
§ 22.24 Permits for falconry purposes | § 22.70 Eagle falconry permits.
§ 22.25 What are the requirements concerning permits to take golden eagle nests? | § 22.75 Golden eagle nest take permits.
§ 22.26 Permits for eagle take that is associated with, but not the purpose of, an activity | § 22.80 Permits for eagle take that is associated with, but not the purpose of, an activity.
§ 22.27 Removal of eagle nests | § 22.85 Removal of eagle nests.
§ 22.28 Permits for bald eagle take exempted under the Endangered Species Act | § 22.90 Permits for bald eagle take exempted under the Endangered Species Act.
Subpart D—Depredation Control Orders on Golden Eagles | Subpart D—Provisions for Depredating Eagles.
§ 22.31 Golden eagle depredations control order on request of Governor of a State | § 22.120 Golden eagle depredations control order on request of Governor of a State.
§ 22.32 Conditions and limitations on taking under depredation control order | § 22.122 Conditions and limitations on taking under depredation control order.

Editorial Corrections

Cross-References in Other Parts of Our Regulations

Because we are renumbering all sections, and renaming and rearranging certain sections, in 50 CFR parts 21 and 22, we need to correct outdated cross-references to these sections in other parts of our regulations. These updates are administrative in nature; they do not change the species protected by, the permit requirements of, or any other requirements of the regulations.

Other Corrections

In this rule, we are making several nonsubstantive, editorial revisions to correct misspellings, update internet addresses, update applicable OMB control numbers and information collection statements, and add or update relevant family and scientific names in certain sections of 50 CFR parts 21 and 22.

Our updates to applicable OMB control numbers provide the currently approved OMB control numbers for the information collection requirements in 50 CFR parts 21 and 22. Our updates to information collection statements in certain sections of 50 CFR parts 21 and 22 provide a consistent approach to the presentation of this information in our regulations and, for those affected sections, streamline the information in our regulations to codify only the information needed to notify the public that the information collection requirements are approved by OMB. In those sections, we are removing burden estimates from the regulations because it is our current practice not to include these estimates, as they do change on occasion and any changes would require us to publish a rulemaking document to update the regulations. All current and past burden estimates for OMB control numbers are available online at http://www.reginfo.gov under the “Information Collection Review” tab.

Our additions or updates to relevant family and scientific names include, but are not limited to, specifying “(family Anatidae)” where we refer to migratory waterfowl and adding scientific names, such as “(Anas platyrhynchos)” where we refer to mallard duck and “(Branta canadensis)” where we refer to Canada goose, where they are lacking in certain sections of part 21. In addition, in certain sections of part 21, we are amending certain common names and/or scientific names of species to match those amendments adopted in the latest revision of the List of Migratory Birds at 50 CFR 10.13 (see 85 FR 21282; April 16, 2020); these changes include, but are not limited to, replacing the common name “American swallow-tailed kite” with “swallow-tailed kite” and replacing the scientific name “Psiloscops flammeolus” with “Otus flammeolus” for the flammulated owl.

All of these editorial revisions are for clarity, accuracy, and consistency within our regulations. Like the other changes described in this rule, these revisions are purely administrative; they do not change the species protected by, the permit requirements of, or any other requirements of the regulations.

Administrative Procedure Act

This rule is a purely administrative action; it makes no changes the substance of the regulations in any way. We are renumbering, renaming, and rearranging certain subparts and sections in parts 21 and 22, and making editorial corrections to those parts, to provide regulated entities and the general public with clearer and better organized regulations. This rule is a “rule of agency organization, procedure or practice” under 5 U.S.C. 553(b), and therefore may be made final without previous notice to the public. This is a final rule.

Required Determinations

Regulatory Planning and Review—Executive Orders 12866 and 13563

Executive Order 12866 provides that the Office of Information and Regulatory Affairs (OIRA) will review all significant rules. The OIRA has determined that this rule is not significant.

Executive Order (E.O.) 13563 reaffirms the principles of E.O. 12866 while calling for improvements in the nation's regulatory system to promote predictability, to reduce uncertainty, and to use the best, most innovative, and least burdensome tools for achieving regulatory ends. E.O. 13563 directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act (5 U.S.C. 601 et seq.)

Under the Regulatory Flexibility Act (5 U.S.C. 601 et seq., as amended by the Small Business Regulatory Enforcement Fairness Act (SBREFA) of 1996 (Pub. L. 104-121)), whenever an agency is required to publish a notice of rulemaking for any proposed or final rule, it must prepare and make available for public comment a regulatory flexibility analysis that describes the effect of the rule on small entities (that is, small businesses, small organizations, and small government jurisdictions). However, no regulatory flexibility analysis is required if the head of an agency certifies the rule will not have a significant economic impact on a substantial number of small entities. SBREFA amended the Regulatory Flexibility Act to require Federal agencies to provide the statement of the factual basis for certifying that a rule will not have a significant economic impact on a substantial number of small entities.

We have examined this rule's potential effects on small entities as required by the Regulatory Flexibility Act, and have determined that this action will not have a significant economic impact on a substantial number of small entities. This rule reorganizes the regulations in parts 21 and 22 of title 50 of the Code of Federal Regulations, and makes nonsubstantive, editorial corrections to those regulations. We are taking this action to ensure that our regulations are clearly organized and easily locatable by regulated entities and the general public. This rule will not result in any costs or benefits to any entities, large or small. Therefore, we certify that this rule will not have a significant economic effect on a substantial number of small entities. As such, a regulatory flexibility analysis is not required.

This rule is not a major rule under the SBREFA (5 U.S.C. 804(2)). It will not have a significant economic impact on a substantial number of small entities.

a. This rule will not have an annual effect on the economy of $100 million or more. There are no costs to any entities resulting from these revisions to the regulations.

b. This rule will not cause a major increase in costs or prices for consumers, individual industries, Federal, State, or local government agencies, or geographic regions. The administrative updates in this rule do not affect costs or prices in any sector of the economy.

c. This rule will not have significant adverse effects on competition, employment, investment, productivity, innovation, or the ability of U.S.-based enterprises to compete with foreign-based enterprises.

Unfunded Mandates Reform Act (2 U.S.C. 1501 et seq.)

In accordance with the Unfunded Mandates Reform Act, we have determined the following:

a. This rule will not “significantly or uniquely” affect small governments in a negative way. A small government agency plan is not required.

b. This rule will not produce a Federal mandate of $100 million or greater in any year. It is not a “significant regulatory action” under the Unfunded Mandates Reform Act.

Takings (E.O. 12630)

Under the criteria outlined in E.O. 12630, this final rule does not have significant takings implications. This rule is an administrative action to reorganize our regulations at 50 CFR parts 21 and 22; it does not contain a provision for taking of private property. A takings implication assessment is not required.

Federalism (E.O. 13132)

This rule does not have sufficient Federalism effects to warrant preparation of a federalism summary impact statement under E.O. 13132.

Civil Justice Reform (E.O. 12988)

In accordance with E.O. 12988, the Office of the Solicitor has determined that the rule does not unduly burden the judicial system and meets the requirements of sections 3(a) and 3(b)(2) of the Order.

Paperwork Reduction Act (44 U.S.C. 3501 et seq.)

This rule does not contain any information collection that would require OMB approval under the Paperwork Reduction Act of 1995. A Federal agency may not conduct or sponsor, and a person is not required to respond to, a collection of information unless it displays a currently valid OMB control number.

National Environmental Policy Act (42 U.S.C. 4321 et seq.)

We evaluated the environmental impacts of the changes to the regulations, and determined that this rule does not have any environmental impacts.

Government-to-Government Relationship With Tribes

In accordance with the President's memorandum of April 29, 1994, “Government-to-Government Relations with Native American Tribal Governments” (59 FR 22951), E.O. 13175, and the Department of the Interior's manual at 512 DM 2, we readily acknowledge our responsibility to communicate meaningfully with recognized Federal Tribes on a government-to-government basis. In accordance with Secretarial Order 3206 of June 5, 1997 (American Indian Tribal Rights, Federal-Tribal Trust Responsibilities, and the Endangered Species Act), we readily acknowledge our responsibilities to work directly with Tribes in developing programs for healthy ecosystems, to acknowledge that Tribal lands are not subject to the same controls as Federal public lands, to remain sensitive to Indian culture, and to make information available to Tribes. We have determined that no Tribes or Tribal lands, sacred sites, or resources will be affected by the administrative changes in this rule.

Energy Supply, Distribution, or Use (E.O. 13211)

E.O. 13211 requires agencies to prepare Statements of Energy Effects when undertaking certain actions. Because this rule is administrative, it is not a significant regulatory action under E.O. 12866, and it will not significantly affect energy supplies, distribution, or use. Therefore, this action is not a significant energy action and no Statement of Energy Effects is required.

List of Subjects

50 CFR Part 12

Administrative practice and procedure, Exports, Fish, Imports, Plants, Seizures and forfeitures, Surety bonds, Transportation, Wildlife.

50 CFR Part 13

Administrative practice and procedure, Exports, Fish, Imports, Plants, Reporting and recordkeeping requirements, Transportation, Wildlife.

50 CFR Part 17

Endangered and threatened species, Exports, Imports, Reporting and recordkeeping requirements, Transportation.

50 CFR Part 19

Aircraft, Fish, Hunting, Reporting and recordkeeping requirements, Wildlife.

50 CFR Part 20

Exports, Hunting, Imports, Reporting and recordkeeping requirements, Transportation, Wildlife.

50 CFR Part 21

Exports, Hunting, Imports, Reporting and recordkeeping requirements, Transportation, Wildlife.

50 CFR Part 22

Exports, Imports, Reporting and recordkeeping requirements, Transportation, Wildlife.

Regulation Promulgation

Accordingly, we amend parts 12, 13, 17, 19, 21, and 22 of subchapter B of chapter I, title 50 of the Code of Federal Regulations, as set forth below:

PART 12—SEIZURE AND FORFEITURE PROCEDURES

1. The authority citation for part 12 continues to read as follows:

Authority: Act of September 6, 1966, 5 U.S.C. 301; Bald and Golden Eagles Protection Act, 16, U.S.C. 668-668b; National Wildlife Refuge System Administration Act, 16 U.S.C. 668dd(e)-(f); Migratory Bird Treaty Act, 16 U.S.C. 704, 706-707, 712; Migratory Bird Hunting and Conservation Stamp Act, 16 U.S.C. 718f-718g; Fish and Wildlife Act of 1956 [Airborne Hunting Amendments], 16 U.S.C. 742j-l(d)-(f); Black Bass Act, 16 U.S.C. 852d-853; Marine Mammal Protection Act of 1972, 16 U.S.C. 1375-1377, 1382; Endangered Species Act of 1973, 16 U.S.C. 1540; Lacey Act, 18 U.S.C. 43, 44; Lacey Act Amendments of 1981, 95 Stat. 1073-1080, 16 U.S.C. 3371 et seq.; Tariff Act of 1930, 19 U.S.C. 1602-1624; Fish and Wildlife Improvement Act of 1978, 16 U.S.C. 742l; Exotic Organisms, E.O. 11987, 42 FR 26949; American Indian Religious Freedom Act, 42 U.S.C. 1996.

§ 12.36 [Amended]

2. Amend § 12.36 in paragraph (c) by removing the number “22.22” and adding in its place the number “22.60”.

PART 13—GENERAL PERMIT PROCEDURES

3. The authority citation for part 13 continues to read as follows:

Authority: 16 U.S.C. 668a, 704, 712, 742j-l, 1374(g), 1382, 1538(d), 1539, 1540(f), 3374, 4901-4916; 18 U.S.C. 42; 19 U.S.C. 1202; 31 U.S.C. 9701.

§ 13.11 [Amended]

4. Amend § 13.11 in paragraph (b)(1) by removing the number “21.22” and adding in its place the number “21.70”.

§ 13.12 [Amended]

5. Amend § 13.12 in the table in paragraph (b) by adding a heading to the table and revising the entries for “Migratory bird permits” and “Eagle permits” to read as follows:

§ 13.12 General information requirements on applications for permits.

* * * * *

(b) * * *

Table 1 to Paragraph (b)
Type of permit | Section
* * * * *
Migratory bird permits:
Taxidermist | 21.63
Import and export | 21.67
Banding or marking | 21.70
Scientific collecting | 21.73
Rehabilitation | 21.76
Falconry | 21.82
Raptor propagation permit | 21.85
Waterfowl sale and disposal | 21.88
Special purpose | 21.95
Depredation | 21.100
Special Canada goose | 21.120
Special double-crested cormorant | 21.123
Eagle permits:
Scientific or exhibition | 22.50
Indian religious use | 22.60
Falconry purposes | 22.70
Take of golden eagle nests | 22.75
Eagle take—Associated with but not the purpose of an activity | 22.80
Eagle nest take | 22.85
Eagle take—Exempted under ESA | 22.90
Depredation and protection of health and safety | 22.100

§ 13.24 [Amended]

6. Amend § 13.24 in paragraph (c) by removing the number “22.26” and adding in its place the number “22.80”.

§ 13.25 [Amended]

7. Amend § 13.25 by:

a. In paragraph (b) introductory text, removing the number “22.26” and adding in its place the number “22.80”; and

b. In paragraph (f), removing the number “22.26” and adding in its place the number “22.80”.

PART 17—ENDANGERED AND THREATENED WILDLIFE AND PLANTS

8. The authority citation for part 17 continues to read as follows:

Authority: 16 U.S.C. 1361-1407; 1531-1544; and 4201-4245, unless otherwise noted.

§ 17.21 [Amended]

9. Amend § 17.21 by:

a. In paragraph (c)(6) introductory text, removing the number “21.31” and adding in its place the number “21.76”; and

b. In paragraph (d)(3) introductory text, removing the number “21.31” and adding in its place the number “21.76”.

PART 19—AIRBORNE HUNTING

10. The authority citation for part 19 continues to read as follows:

Authority: Fish and Wildlife Act of 1956, 85 Stat. 480, as amended, 86 Stat. 905 (16 U.S.C. 742a-j-1).

§ 19.3 [Amended]

11. Amend § 19.3 by removing the number “21.41” and adding in its place the number “21.100”.

§ 19.21 [Amended]

12. Amend § 19.21 by removing the number “21.41” and adding in its place the number “21.100”.

PART 20—MIGRATORY BIRD HUNTING

13. The authority citation for part 20 continues to read as follows:

Authority: 16 U.S.C. 703 et seq., and 16 U.S.C. 742a-j.

§ 20.23 [Amended]

14. Amend § 20.23 by removing the words “subpart E of part 21” and adding in their place the words “50 CFR 21.180 and 21.183”.

§ 20.65 [Amended]

15. Amend § 20.65 by removing the number “21.24” and adding in its place the number “21.63”.

PART 21—MIGRATORY BIRD PERMITS

16. The authority citation for part 21 continues to read as follows:

Authority: 16 U.S.C. 703-712.

Subpart A—Introduction and General Requirements

17. Revise the heading of subpart A to read as set forth above.

§§ 21.1, 21.2, 21.3, and 21.4 [Redesignated as §§ 21.2, 21.4, 21.6, and 21.8]

18. Redesignate §§ 21.1, 21.2, 21.3, and 21.4 as §§ 21.2, 21.4, 21.6, and 21.8, respectively.

19. Amend newly redesignated § 21.2 by:

a. Revising the section heading; and

b. In the first sentence, removing the word “transporation” and adding in its place the word “transportation”.

The revision reads as follows.

§ 21.2 Purpose of this part.

* * * * *

20. In newly redesignated § 21.4, revise the section heading and paragraph (b) to read as follows:

§ 21.4 Scope of this part.

* * * * *

(b) This part, except for § 21.12(a), (c), and (d) (general permit exceptions); § 21.70 (banding or marking); § 21.76 (rehabilitation); and § 21.82 (falconry), does not apply to the bald eagle (Haliaeetus leucocephalus) or the golden eagle (Aquila chrysaetos), for which regulations are provided in part 22 of this subchapter.

* * * * *

§ 21.6 [Amended]

21. In the newly redesignated § 21.6, amend the definitions of “Conservation measures”, “Population”, and “Significant adverse effect on a population” by removing the number “21.15” and adding in its place the number “21.42”.

22. Revise newly redesignated § 21.8 to read as follows:

§ 21.8 Information collection requirements.

The Office of Management and Budget (OMB) has approved the information collection requirements contained in this part and assigned OMB Control Number 1018-0022. Federal agencies may not conduct or sponsor, and a person is not required to respond to, a collection of information unless it displays a currently valid OMB control number. Direct comments regarding the burden estimate or any other aspect of the information collection to the Service's Information Collection Clearance Officer at the address provided at 50 CFR 2.1(b).

Subpart B—Exceptions to Permit Requirements

23. Revise the heading of subpart B to read as set forth above.

§ 21.11 [Redesignated as § 21.10 and Transferred to Subpart A]

24. Redesignate § 21.11 as § 21.10 and transfer the section from subpart B to subpart A.

25. Amend § 21.12 by revising paragraph (c)(2) to read as follows:

§ 21.12 General exceptions to permit requirements.

* * * * *

(c) * * *

(2) Euthanize migratory birds as required by § 21.76(e)(4)(iii) and § 21.76(e)(4)(iv), and dispose of dead migratory birds in accordance with § 21.76(e)(4)(vi); and

* * * * *

§§ 21.13, 21.14, and 21.15 [Redesignated as §§ 21.45, 21.48, and 21.42]

26. Redesignate §§ 21.13, 21.14, and 21.15 as §§ 21.45, 21.48, and 21.42, respectively.

27. Amend newly redesignated § 21.45 by revising the introductory text to read as follows:

§ 21.45 Permit exceptions for captive-reared mallard ducks.

Captive-reared and properly marked mallard ducks (Anas platyrhynchos), alive or dead, or their eggs may be acquired, possessed, sold, traded, donated, transported, and disposed of by any person without a permit, subject to the following conditions, restrictions, and requirements:

* * * * *

28. Amend newly redesignated § 21.48 by:

a. Revising the first sentence of the introductory text;

b. In paragraph (a), removing the number “21.21” and adding in its place the number “21.67”;

c. In paragraph (b), removing the number “21.13(b)” and adding in its place the number “21.45(b)”;

d. In paragraph (c), removing the number “21.25” and adding in its place the number “21.88”;

e. In paragraph (e), removing the number “21.25(b)(6)” and adding in its place the number “21.88(b)(6)”; and

f. In paragraph (f), removing the words “Notice of Waterfowl Sale or Transfer” and adding in their place the words “Notice of Transfer or Sale of Migratory Waterfowl”.

The revision reads as follows:

§ 21.48 Permit exceptions for captive-bred migratory waterfowl other than mallard ducks.

You may acquire captive-bred and properly marked migratory waterfowl (family Anatidae) of all species other than mallard ducks (Anas platyrhynchos), alive or dead, or their eggs, and possess and transport such birds or eggs and any progeny or eggs for your use without a permit, subject to the following conditions and restrictions. * * *

* * * * *

Subpart C—Specific Permit Provisions

§§ 21.21, 21.22, 21.23, 21.24, 21.25, 21.26, 21.27, 21.28, 21.29, 21.30, and 21.31 [Redesignated as §§ 21.67, 21.70, 21.73, 21.63, 21.88, 21.120, 21.95, 21.123, 21.82, 21.85, and 21.76]

29. Redesignate the sections in subpart C as shown in the following table:

Old section | New section
§ 21.21 | § 21.67
§ 21.22 | § 21.70
§ 21.23 | § 21.73
§ 21.24 | § 21.63
§ 21.25 | § 21.88
§ 21.26 | § 21.120
§ 21.27 | § 21.95
§ 21.28 | § 21.123
§ 21.29 | § 21.82
§ 21.30 | § 21.85
§ 21.31 | § 21.76

30. Amend newly redesignated § 21.63 by:

a. Revising the first sentence of paragraph (c)(2); and

b. In paragraph (d)(1), removing the words “Notice of Waterfowl Sale or Transfer” and adding in their place the words “Notice of Transfer or Sale of Migratory Waterfowl”.

The revision reads as follows:

§ 21.63 Taxidermist permits.

* * * * *

(c) * * *

(2) Sell properly marked, captive-reared migratory waterfowl (family Anatidae) which they have lawfully acquired and mounted. * * *

* * * * *

§ 21.67 [Amended]

31. Amend newly redesignated § 21.67 by:

a. In paragraph (c)(1) introductory text, removing the words “of this subpart” and adding in their place the words “of this part”; and

b. In paragraph (c)(2), by removing the number “21.30” and adding in its place the number “21.85”.

§ 21.70 [Amended]

32. Amend newly redesignated § 21.70 in paragraph (c)(2) by removing the words “(Form 3-1155, available upon request from the Bird Banding Laboratory, Office of Migratory Bird Management, U.S. Fish and Wildlife Service, Laurel, Md. 20708)” and adding in their place the words, “(Forms available upon request from the Bird Banding Laboratory, U.S. Geological Survey, Laurel, MD 20708)”.

§ 21.73 [Amended]

33. Amend newly redesignated § 21.73 in paragraph (c)(1) by removing the number “21.27” and adding in its place the number “21.95”.

34. Amend newly redesignated § 21.76 by:

a. Revising footnote 1 in paragraph (e)(1) introductory text; and

b. In paragraph (e)(8), removing the word “Service” and adding in its place the word “FWS”.

The revision reads as follows:

§ 21.76 Rehabilitation permits.

* * * * *

(e) * * *

(1) * * *

¹ Copies may be obtained by contacting either the National Wildlife Rehabilitators Association, https://nwrawildlife.org/; or the International Wildlife Rehabilitation Council, https://theiwrc.org.

* * * * *

35. Amend newly redesignated § 21.82 by:

a. In paragraph (a)(1)(ii), the first sentence, adding the words “(Aquila chrysaetos)” after the words “taking of golden eagles”;

b. In paragraphs (b)(2)(i) and (ii), removing the “http://permits.fws.gov/186A” and adding in its place “https://epermits.fws.gov/falcp/”;

c. In paragraph (c)(2)(i)(E), in the second sentence:

i. Removing the word “American”; and

ii. Removing the word “Otus” and adding in its place the word “Psiloscops”;

d. In paragraph (c)(6)(ii), removing the number “21.30” and adding in its place the number “21.85”;

e. In paragraph (e)(1)(v), removing the number “22.23” and adding in its place the number “22.100” and removing “22.31 and 22.32” and adding in their place “22.120 and 22.122”;

f. In paragraph (e)(3)(ii)(B), removing “wildlif” and adding in its place “wildlife.”;

g. In paragraph (e)(3)(v) introductory text, removing “bandexcept” and adding in its place “band, except”;

h. In paragraph (e)(3)(viii), removing the number “22.24” and adding in its place the number “22.70”;

i. In paragraph (f)(7), removing the number “21.30” in both places it appears and adding in their place the number “21.85”;

j. In paragraph (f)(10)(ii), removing the number “21.31” and adding in its place the number “21.76”;

k. In paragraph (f)(15) introductory text, removing the number “21.21” and adding in its place the number “21.67”;

l. In paragraph (f)(20), by removing “parts 21.43, 44, 45, or 46” and adding in its place “§ 21.150, § 21.153, or § 21.156”; and

m. Revising paragraph (j).

The revision reads as follows:

§ 21.82 Falconry standards and falconry permitting.

* * * * *

(j) Information collection requirements. The Office of Management and Budget (OMB) has approved the information collection requirements contained in this section and assigned OMB Control Number 1018-0022. Federal agencies may not conduct or sponsor, and a person is not required to respond to, a collection of information unless it displays a currently valid OMB control number. Direct comments regarding the burden estimate or any other aspect of the information collection to the Service's Information Collection Clearance Officer at the address provided at 50 CFR 2.1(b).

* * * * *

§ 21.85 [Amended]

36. Amend newly redesignated § 21.85 by:

a. In paragraph (c)(1), removing the number “21.29” and adding in its place the number “21.82”;

b. In paragraph (e)(1)(iii), removing “http://permits.fws.gov/186A” and adding in its place “https://epermits.fws.gov/falcp/”; and

c. In paragraph (f)(4), removing the number “21.29” and adding in its place the number “21.82”.

37. Amend newly redesignated § 21.88 by:

a. Revising the first sentence of paragraph (a);

b. In paragraphs (b)(3) and (4), removing the number “21.13(b)” and adding in its place the number “21.45(b)”; and

c. In paragraph (b)(9) introductory text, removing the words “Notice of Waterfowl Sale or Transfer” and adding in their place the words “Notice of Transfer or Sale of Migratory Waterfowl”, and removing the number “21.13(b)” and adding in its place the number “21.45(b)”.

The revision reads as follows:

§ 21.88 Waterfowl sale and disposal permits.

(a) * * * You must have a waterfowl sale and disposal permit before you may lawfully sell, trade, donate, or otherwise dispose of most species of captive-reared and properly marked migratory waterfowl (family Anatidae) or their eggs. * * *

* * * * *

38. Amend newly redesignated § 21.95 by:

a. Revising the second sentence of paragraph (a);

b. In the first sentence of paragraph (c) introductory text, removing “Inaddition” and adding in its place “In addition”; and

c. In paragraphs (c)(3) and (4), removing the number “21.13(b)” and adding in its place the number “21.45(b)”.

The revision reads as follows:

§ 21.95 Special purpose permits.

* * * * *

(a) * * * In addition, a special purpose permit is required before any person may sell, purchase, or barter captive-bred, migratory game birds (see 50 CFR 20.11(a)), other than waterfowl, that are marked in compliance with § 21.45(b) of this part. * * * * *

§ 21.120 [Transferred to Subpart D]

39. Amend newly redesignated § 21.120 by:

a. Transferring the section from subpart C to subpart D;

b. Revising the second sentence of paragraph (a),

c. In paragraph (c) introductory text, adding the words “(Form 3-200-6)” after the word “application”; and

d. Revising paragraph (e).

The revisions read as follows:

§ 21.120 Special Canada goose permit.

(a) * * * The special Canada goose permit is a permit issued by us to a State wildlife agency authorizing certain resident Canada goose (Branta canadensis) management and control activities that are normally prohibited. * * *

* * * * *

(e) Information collection requirements. The Office of Management and Budget (OMB) has approved the information collection requirements of the permit and assigned OMB Control Number 1018-0022. Federal agencies may not conduct or sponsor, and a person is not required to respond to, a collection of information unless it displays a currently valid OMB control number. Direct comments regarding the burden estimate or any other aspect of the information collection to the Service's Information Collection Clearance Officer at the address provided at 50 CFR 2.1(b).

§ 21.123 [Transferred to Subpart D and Amended]

40. Amend newly redesignated § 21.123 by:

a. Transferring the section from subpart C to subpart D; and

b. In paragraph (a) introductory text, in the second sentence, adding the words “(Phalacrocorax auritus)” after the words “special double-crested cormorant”.

Subpart D—Provisions for Depredating, Overabundant, or Otherwise Injurious Birds

41. Revise the heading of subpart D to read as set forth above.

§§ 21.41, 21.43, 21.44, 21.46, 21.49, 21.50, 21.51, 21.52, 21.53, 21.54, and 21.55 [Redesignated as §§ 21.100, 21.150, 21.153, 21.156, 21.159, 21.162, 21.165, 21.168, 21.171, 21.174, and 21.177]

42. Redesignate the sections in subpart D as shown in the following table:

Old section | New section
§ 21.41 | § 21.100
§ 21.43 | § 21.150
§ 21.44 | § 21.153
§ 21.46 | § 21.156
§ 21.49 | § 21.159
§ 21.50 | § 21.162
§ 21.51 | § 21.165
§ 21.52 | § 21.168
§ 21.53 | § 21.171
§ 21.54 | § 21.174
§ 21.55 | § 21.177

§ 21.100 [Amended]

43. Amend newly redesignated § 21.100 by:

a. In paragraph (a), removing “21.43, 21.44, and 21.46” and adding in its place “21.150, 21.153, and 21.156”; and

b. In paragraph (c) introductory text, removing “Inaddition” and adding in its place “In addition”.

§ 21.150 [Amended]

44. Amend newly redesignated § 21.150 by:

a. In paragraph (i), removing the number “3-202-21-2143” and adding in its place the number “3-2436”; and

b. Revising paragraph (k).

The revision reads as follows:

§ 21.150 Depredation order for blackbirds, cowbirds, crows, grackles, and magpies.

* * * * *

(k) Information collection requirements. The Office of Management and Budget (OMB) has approved the information collection requirements associated with this depredation order and assigned OMB Control Number 1018-0146. Federal agencies may not conduct or sponsor, and a person is not required to respond to, a collection of information unless it displays a currently valid OMB control number. Direct comments regarding the burden estimate or any other aspect of the information collection to the Service's Information Collection Clearance Officer at the address provided at 50 CFR 2.1(b).

§ 21.153 [Amended]

45. Amend newly redesignated § 21.153 by:

a. In the introductory text, removing the word “Carpodacus” and adding in its place the word “Haemorhous” and removing the number “21.41” and adding in its place the number “21.100”; and

b. In paragraph (e), removing the number “3-202-20-2144” and adding in its place the number “3-2436”.

46. Amend newly redesignated § 21.159 by:

a. In paragraph (a), adding the words “(Branta canadensis)” after the words “management of resident Canada geese” and removing the number “21.3” and adding in its place the number “21.6”; and

b. Revising paragraph (f).

The revision reads as follows:

§ 21.159 Control order for resident Canada geese at airports and military airfields.

* * * * *

(f) Information collection requirements. The Office of Management and Budget (OMB) has approved the information collection requirements associated with this control order and assigned OMB Control Number 1018-0146. Federal agencies may not conduct or sponsor, and a person is not required to respond to, a collection of information unless it displays a currently valid OMB control number. Direct comments regarding the burden estimate or any other aspect of the information collection to the Service's Information Collection Clearance Officer at the address provided at 50 CFR 2.1(b).

47. Amend newly redesignated § 21.162 by:

a. In paragraph (a), adding the words “(Branta canadensis)” after the words “management of resident Canada geese” and removing the number “21.3” and adding in its place the number “21.6”; and

b. Revising paragraph (f).

The revision reads as follows:

§ 21.162 Depredation order for resident Canada geese nests and eggs.

* * * * *

(f) Information collection requirements. The Office of Management and Budget (OMB) has approved the information collection requirements associated with this depredation order and assigned OMB Control Number 1018-0146. Federal agencies may not conduct or sponsor, and a person is not required to respond to, a collection of information unless it displays a currently valid OMB control number. Direct comments regarding the burden estimate or any other aspect of the information collection to the Service's Information Collection Clearance Officer at the address provided at 50 CFR 2.1(b).

48. Amend newly redesignated § 21.165 by:

a. In paragraph (a), adding the words “(Branta canadensis)” after the words “management of resident Canada geese” and removing the number “21.3” and adding in its place the number “21.6”; and

b. Revising paragraph (f).

The revision reads as follows:

§ 21.165 Depredation order for resident Canada geese at agricultural facilities.

* * * * *

(f) Information collection requirements. The Office of Management and Budget (OMB) has approved the information collection requirements associated with this depredation order and assigned OMB Control Number 1018-0146. Federal agencies may not conduct or sponsor, and a person is not required to respond to, a collection of information unless it displays a currently valid OMB control number. Direct comments regarding the burden estimate or any other aspect of the information collection to the Service's Information Collection Clearance Officer at the address provided at 50 CFR 2.1(b).

49. Amend newly redesignated § 21.168 by:

a. In paragraph (a), adding the words “(Branta canadensis)” after the words “management of resident Canada geese” and removing the number “21.3” and adding in its place the number “21.6”; and

b. Revising paragraph (g).

The revision reads as follows:

§ 21.168 Public health control order for resident Canada geese.

* * * * *

(g) Information collection requirements. The Office of Management and Budget (OMB) has approved the information collection requirements associated with this control order and assigned OMB Control Number 1018-0146. Federal agencies may not conduct or sponsor, and a person is not required to respond to, a collection of information unless it displays a currently valid OMB control number. Direct comments regarding the burden estimate or any other aspect of the information collection to the Service's Information Collection Clearance Officer at the address provided at 50 CFR 2.1(b).

§ 21.171 [Amended]

50. Amend newly redesignated § 21.171, paragraph (c), by:

a. In paragraph (c)(2), removing the words “Porphyrula martinica” and adding in their place the words “Porphyrio martinicus”; and

b. In paragraph (c)(4), removing “http://www.fws.gov/where/” and adding in its place “https://www.fws.gov/offices”.

51. Amend newly redesignated § 21.174 by:

a. Revising the section heading; and

b. In paragraphs (a), (b), (c), and (d)(1), (2), and (4), removing the word “muscovy” and adding in its place the word “Muscovy” wherever it appears.

The revision reads as follows:

§ 21.174 Control order for Muscovy ducks in the United States.

* * * * *

Subpart E—Control of Overabundant Migratory Bird Populations

§§ 21.60 and 21.61 [Redesignated as §§ 21.180 and 21.183 and Transferred to Subpart D]

52. Redesignate §§ 21.60 and 21.61 as §§ 21.180 and 21.183, respectively, and transfer the sections from subpart E to subpart D.

53. Amend newly redesignated § 21.180 by:

a. In paragraph (b), removing the word “Chen” and adding in its place the word “Anser”, and removing “C. c. caerulescens” and adding in its place “A. c. caerulescens”; and

b. Revising paragraph (j).

The revision reads as follows:

§ 21.180 Conservation order for light geese.

* * * * *

(j) Information collection requirements. The Office of Management and Budget (OMB) has approved the information collection requirements associated with this conservation order and assigned OMB Control Number 1018-0146. Federal agencies may not conduct or sponsor, and a person is not required to respond to, a collection of information unless it displays a currently valid OMB control number. Direct comments regarding the burden estimate or any other aspect of the information collection to the Service's Information Collection Clearance Officer at the address provided at 50 CFR 2.1(b).

54. Amend newly redesignated § 21.183 by:

a. In paragraph (a), by adding the words “(Branta canadensis)” immediately following the words “control of resident Canada geese”, and removing the number “21.3” and adding in its place the number “21.6”; and

b. In paragraph (d) introductory text, in the first sentence, removing “21.49 through 21.52” and adding in their place “21.159, 21.162, 21.165, and 21.168” and removing the number “21.61(c)” and adding in its place the words “paragraph (c) of this section”;

c. In paragraph (f), in the fourth sentence, removing the number “21.61(d)” and adding in its place the words “paragraph (d) of this section”; and

d. Revising paragraph (i).

The revision reads as follows:

§ 21.183 Population control of resident Canada geese.

* * * * *

(i) Information collection requirements. The Office of Management and Budget (OMB) has approved the information collection requirements associated with this program and assigned OMB Control Number 1018-0146. Federal agencies may not conduct or sponsor, and a person is not required to respond to, a collection of information unless it displays a currently valid OMB control number. Direct comments regarding the burden estimate or any other aspect of the information collection to the Service's Information Collection Clearance Officer at the address provided at 50 CFR 2.1(b).

Subpart E [Removed]

55. Remove newly vacant subpart E.

PART 22—EAGLE PERMITS

56. The authority citation for part 22 continues to read as follows:

Authority: 16 U.S.C. 668-668d; 703-712; 1531-1544.

Subpart A—Introduction and General Requirements

57. Revise the heading of subpart A to read as set forth above.

§§ 22.1, 22.2, 22.3, and 22.4 [Redesignated as §§ 22.2, 22.4, 22.6, and 22.8]

58. Redesignate §§ 22.1, 22.2, 22.3, and 22.4 as §§ 22.2, 22.4, 22.6, and 22.8, respectively.

59. Amend newly redesignated § 22.2 by revising the section heading to read as follows:

§ 22.2 Purpose of this part.

* * * * *

60. Amend newly redesignated § 22.4 by:

a. Revising the section heading; and

b. In paragraph (a)(2), removing the number “22.22” and adding in its place the number “22.60”.

The revision reads as follows:

§ 22.4 Scope of this part.

* * * * *

61. Revise newly redesignated § 22.8 to read as follows:

§ 22.8 Information collection requirements.

The Office of Management and Budget (OMB) has approved the information collection requirements contained in this part and assigned OMB Control Number 1018-0167. Federal agencies may not conduct or sponsor, and a person is not required to respond to, a collection of information unless it displays a currently valid OMB control number. Direct comments regarding the burden estimate or any other aspect of the information collection to the Service's Information Collection Clearance Officer at the address provided at 50 CFR 2.1(b).

Subpart B—General Requirements

§ 22.11 [Redesignated as § 22.10 and Transferred to Subpart A]

62. Redesignate § 22.11 as § 22.10, transfer it from subpart B to subpart A, and amend it by:

a. Revising the section heading; and

b. In the introductory text, removing the number “21.2” and adding in its place the number “21.4”.

The revision reads as follows:

§ 22.10 Relationship to other permit requirements.

* * * * *

§ 22.12 [Transferred to Subpart A]

63. Amend § 22.12 by:

a. Transferring it from subpart B to subpart A; and

b. Revising the section heading.

The revision reads as follows:

§ 22.12 Illegal activities.

* * * * *

Subpart B [Reserved]

64. Reserve newly vacant subpart B.

Subpart C—Specific Eagle Permit Provisions

65. Revise the heading of subpart C to read as set forth above.

§§ 22.21, 22.22, 22.23, 22.24, 22.25, 22.26, 22.27, and 22.28 [Redesignated as §§ 22.50, 22.60, 22.100, 22.70, 22.75, 22.80, 22.85, and 22.90]

66. Redesignate the sections in subpart C as shown in the following table:

Old section | New section
§ 22.21 | § 22.50
§ 22.22 | § 22.60
§ 22.23 | § 22.100
§ 22.24 | § 22.70
§ 22.25 | § 22.75
§ 22.26 | § 22.80
§ 22.27 | § 22.85
§ 22.28 | § 22.90

67. Amend newly redesignated § 22.50 by revising the section heading to read as follows:

§ 22.50 Eagle scientific and eagle exhibition permits.

* * * * *

68. Amend newly redesignated § 22.60 by revising the section heading to read as follows:

§ 22.60 Eagle Indian religious permits.

* * * * *

69. Amend newly redesignated § 22.70 by:

a. Revising the section heading;

b. In paragraph (a), removing “21.29 (c)(3)(iv)” and adding in its place “21.82(c)(3)(iv)”; and

c. In paragraph (b), removing the number “22.23” and adding in its place the number “22.100” and removing the words “Subpart D, Depredation Control Orders on Golden Eagles” and adding in their place the words “Subpart D—Provisions for Depredating Eagles”.

The revision reads as follows:

§ 22.70 Eagle falconry permits.

* * * * *

70. Amend newly redesignated § 22.75 by revising the introductory text to read as follows:

§ 22.75 Golden eagle nest take permits.

The Director may, upon receipt of an application and in accordance with the issuance criteria of this section, issue a permit authorizing any person to take alternate golden eagle nests during a resource development or recovery operation if the taking is compatible with the preservation of golden eagles. The Office of Management and Budget (OMB) has approved the information collection requirements contained in this section and assigned OMB Control Number 1018-0167. Federal agencies may not conduct or sponsor, and a person is not required to respond to, a collection of information unless it displays a currently valid OMB control number. Direct comments regarding the burden estimate or any other aspect of the information collection to the Service's Information Collection Clearance Officer at the address provided at 50 CFR 2.1(b).

* * * * *

§ 22.80 [Amended]

71. Amend newly redesignated § 22.80 in paragraph (b) introductory text by removing the number “22.3” and adding in its place the number “22.6”.

§ 22.85 [Amended]

72. Amend newly redesignated § 22.85 by:

a. In paragraph (b)(8) introductory text, removing the number “22.26(c)(1)(iii)” and adding in its place the number “22.80(c)(1)(iii)”;

b. In paragraph (c)(1), by removing “(http://www.fws.gov/permits/mbpermits/addresses.html)”; and

c. In paragraph (e)(6)(iv), removing the number “22.25” and adding in its place the number “22.75”.

§ 22.90 [Amended]

73. Amend newly redesignated § 22.90 in paragraphs (a) and (b) by removing the number “22.26” and adding in its place the number “22.80”.

§ 22.100 [Transferred to Subpart D]

74. Amend newly redesignated § 22.100 by:

a. Transferring it from subpart C to subpart D; and

b. Revising the section heading.

The revision reads as follows:

§ 22.100 Eagle depredation permits.

* * * * *

Subpart D—Provisions for Depredating Eagles

75. Revise the heading of subpart D to read as set forth above.

§§ 22.31 and 22.32 [Redesignated as §§ 22.120 and 22.122]

76. Redesignate §§ 22.31 and 22.32 as §§ 22.120 and 22.122, respectively.

Shannon A. Estenoz,
Assistant Secretary for Fish and Wildlife and Parks.

[FR Doc. 2021-28086 Filed 1-6-22; 8:45 am]

BILLING CODE 4333-15-P